DEPARTMENT OF TRANSPORTATION

Federal Aviation Administration

14 CFR Part 39

[Docket No. FAA-2005-22524; Directorate Identifier 2005-NM-135-AD]

RIN 2120-AA64

Airworthiness Directives; Airbus Model A330-200, A330-300, A340-200, and A340-300 Series Airplanes, and Model A340-541 and A340-642 Airplanes

AGENCY: Federal Aviation Administration (FAA), Department of Transportation (DOT).

ACTION: Notice of proposed rulemaking (NPRM).

SUMMARY: The FAA proposes to adopt a new airworthiness directive (AD) for certain Airbus Model A330-200, A330-300, A340-200, and A340-300 series airplanes, and A340-541 and A340-642 airplanes. This proposed AD would require inspecting to determine if certain emergency escape slides/slide rafts (referred to as slide/rafts) are installed in certain crew/passenger doors; and, if so, performing a one-time inspection to determine if the electrical harnesses of the slide/rafts are properly routed, and rerouting the harnesses if necessary. This proposed AD results from a report that a slide/raft failed to deploy properly during a deployment test. We are proposing this AD to detect and correct improper routing of the electrical harnesses of certain slide/rafts, which could prevent proper deployment of the slide/rafts and delay evacuation of passengers and flightcrew during an emergency.

DATES: We must receive comments on this proposed AD by October 27, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Include the docket number “FAA-2005-22524; Directorate Identifier 2005-NM-135-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A330-200, A330-300, A340-200, and A340-300 series airplanes, and A340-541 and A340-642 airplanes. The DGAC has received a report that, during a deployment test, an emergency escape slide/slide raft (referred to hereafter as a “slide/raft”) failed to deploy due to interference from the slide/raft electrical harness, which had been improperly routed during a prior replacement or installation of the slide/raft. This condition, if not corrected, could prevent proper deployment of certain slide/rafts and delay evacuation of passengers and flightcrew during an emergency.

Relevant Service Information

Airbus has issued All Operators Telex (AOT) A330-25A3272-2005, Revision 01, dated March 24, 2005 (for Model A330-200 and -300 series airplanes); AOT A340-25A4259-2005, Revision 01, dated March 24, 2005 (for Model A340-200 and -300 series airplanes); and AOT A340-25A5091, Revision 02, dated June 1, 2005 (for Model A340-541 and -642 airplanes). The AOTs describe procedures for inspecting for proper routing of the electrical harnesses of the slide/rafts of certain airplane crew/passenger doors and rerouting the harnesses if necessary. Accomplishing the actions specified in the service information is intended to adequately address the unsafe condition. The DGAC mandated the service information and issued French airworthiness directive F-2005-077, dated May 11, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously.

Clarification of Inspection Terminology

The “inspection” of the electrical harnesses specified in French airworthiness directive F-2005-077 and the AOTs is referred to in this proposed AD as a “general visual inspection.” We have included the definition for a general visual inspection in a note in the proposed AD.

Costs of Compliance

This proposed AD would affect about 25 airplanes of U.S. registry. The proposed actions would take about 3 work hours per airplane, at an average labor rate of $65 per work hour. Based on these figures, the estimated cost of the proposed AD for U.S. operators is $4,875, or $195 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-22524; Directorate Identifier 2005-NM-135-AD.

Comments Due Date

(a) The FAA must receive comments on this AD action by October 27, 2005.

Affected ADs

(b) None.

Applicability

(c) This AD applies to Airbus Model A330-201, -202, -203, -223, -243, -301, -321, -322, -323, -341, -342, and -343 airplanes; Model A340-211, -212, -213, -311, -312, and -313 airplanes; and Model A340-541 and -642 airplanes; certificated in any category; as identified in Airbus All Operators Telex (AOT) A330-25A3272-2005, Revision 01, dated March 24, 2005; Airbus AOT A340-25A4259-2005, Revision 01; dated March 24, 2005; or Airbus AOT A340-25A5091, Revision 02, dated June 1, 2005; as applicable.

Unsafe Condition

(d) This AD results from a report that an emergency escape slide/slide raft (referred to hereafter as a “slide/raft”) failed to deploy properly during a deployment test. We are issuing this AD to detect and correct improper routing of the electrical harnesses of certain slide/rafts, which could prevent proper deployment of the slide/raft and delay evacuation of passengers and flightcrew during an emergency.

Compliance

(e) You are responsible for having the actions required by this AD performed within the compliance times specified, unless the actions have already been done.

Inspections and Corrective Actions

(f) Within 1,700 flight hours after the effective date of this AD: Inspect certain crew/passenger doors as required by paragraph (f)(1) or (f)(2), as applicable, of this AD to determine if slide/rafts having certain part numbers (P/N) are installed. A review of airplane maintenance records is acceptable in lieu of this inspection if the presence of the subject slide/rafts can be conclusively determined from that review.

(1) For Model A330-201, -202, -203, -223, -243, -301, -321, -322, -323, -341, -342, and -343 airplanes and Model A340-211, -212, -213, -311, -312, and -313 airplanes: On both right and left hand sides, inspect to determine the P/N of the slide/rafts of crew/passenger doors 1 and 4, and, only if it is a type 1 door, crew/passenger door 3. If crew/passenger door 3 is not a type 1 door, it is not subject to any requirement of this AD.

(i) If a slide/raft does not have P/N 7A1508-( ) or 7A1509-( ), no further action is required for that slide/raft by this AD.

(ii) If a slide/raft has P/N 7A1508-( ) or 7A1509-( ), before further flight, perform a general visual inspection of the electrical harness of the slide/raft and reroute the harness, as applicable, in accordance with paragraphs 4.2 through 4.2.4 of Airbus All Operators Telex (AOT) A330-25A3272-2005, Revision 01, or Airbus AOT A340-25A4259-2005, Revision 01; both dated March 24, 2005; as applicable.

(2) For Model A340-541 and -642 airplanes: On both right and left hand sides, inspect to determine the P/N of the slide/rafts of crew/passenger doors 1 and 4.

(i) If a slide/raft does not have P/N 7A1508-( ), no further action is required for that slide/raft by this AD.

(ii) If a slide/raft has P/N 7A1508-( ), before further flight, perform a general visual inspection of the electrical harness of that slide/raft and reroute the harness, as applicable, in accordance with paragraphs 4.2 through 4.2.4 of Airbus AOT A340-25A5091, Revision 02, dated June 1, 2005.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Actions Accomplished According to Previous Issues of AOTs

(g) Actions accomplished before the effective date of this AD in accordance with Airbus AOT A330-25A3272, Airbus AOT A340-25A4259 (for Model A340-200 and -300 airplanes), or Airbus AOT A340-25A5091 (for Model A340-541 and -642 airplanes); all dated March 17, 2005; or A340-25A5091-2005, Revision 01, dated March 24, 2005; as applicable; are considered acceptable for compliance with the corresponding actions specified in paragraph (f) of this AD.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(i) French airworthiness directive F-2005-077, dated May 11, 2005, also addresses the subject of this AD.

Issued in Renton, Washington, on September 16, 2005.
Ali Bahrami,
Manager, Transport Airplane Directorate, Aircraft Certification Service.

[FR Doc. 05-19235 Filed 9-26-05; 8:45 am]

BILLING CODE 4910-13-P